DEPARTMENT OF THE INTERIOR

Fish and Wildlife Service

Aquatic Nuisance Species Task Force Caulpera taxifolia (Mediterranean strain) Prevention Committee

AGENCY: Fish and Wildlife Service, Interior.

ACTION: Notice of meeting.

SUMMARY: This notice announces a meeting of the Caulpera taxifolia (Mediterranean strain) Prevention Committee of the Aquatic Nuisance Species Task Force. The meeting topics are identified in the SUPPLEMENTARY INFORMATION.

DATES: The Committee will meet from 1:30 pm to 5 pm, on Wednesday, April 5, 2000.

ADDRESSES: The meeting will be held at the Rosenstiel School of Marine and Atmospheric Science, Cooperative Institute for Marine and Atmospheric Studies (CIMAS) Building, 3rd floor conference room, 4600 Rickenbacker Causeway, Miami, Florida.

FOR FURTHER INFORMATION CONTACT: Sandra Keppner, U.S. Fish and Wildlife Service at 716-691-5456 or by email at sandra_keppner@fws.gov or Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force Caulpera taxifolia (Mediterranean strain) Prevention Committee. The Task Force was established by the Nonindigenous Aquatic Nuisance Prevention and Control Act of 1990 (16 U.S.C. 4701-4741).

Topics to be addressed at this meeting include: reviewing the roles and responsibilities of the committee, reviewing the draft Prevention Program, reviewing existing authorities that could be used to regulate import of the Mediterranean strain of Caulpera taxifolia, identifying gaps in the draft Prevention Program, and developing criteria for prioritizing actions in the Prevention Program.

Minutes of the meeting will be maintained by the Executive Secretary, Aquatic Nuisance Species Task Force, Suite 851, 4401 North Fairfax Drive, Arlington, Virginia 22203-1622. Minutes for the meetings will be available at this location for public inspection during regular business hours, Monday through Friday.

Dated: March 20, 2000.
Rowan Gould,
Acting Aquatic Nuisance Species Task Force, Acting Assistant Director—Fisheries.

[FR Doc. 00-7364 Filed 3-24-00; 8:45 am]

BILLING CODE 4310-55-M